DEPARTMENT OF JUSTICE

Office of Justice Programs

[OMB Number 1121-0140]

Agency Information Collection Activities: Proposed Collection; Comments Requested

ACTION: 60-Day Notice of Information Collection Under Review: OJP Standard Assurances Form.

The Department of Justice, Office of Justice Programs will be submitting the following information collection request to the Office of Management and Budget (OMB) for review and clearance in accordance with review procedures of the Paperwork Reduction Act of 1995. The proposed information collection is published to obtain comments from the public and affected agencies. If granted, the approval is valid for three years.

All comments and suggestions, or questions regarding additional information, to include obtaining a copy of the proposed information collection instrument with instructions, should be directed to should be directed to the Office of the General Counsel, Office of Justice Programs, U.S. Department of Justice, Attention: Kristopher Brambila, Attorney-Advisor, 810 7th St. NW., Washington, DC 20503. Comments will be accepted for 60 days until August 18, 2009. This process is conducted in accordance with 5 CFR 1320.10.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information:

(1) Type of information collection: Extension, without change of a currently approved collection.

(2) The title of the form/collection: OJP Standard Assurances.

(3) Agency Form Number: None. Component Sponsoring Collection: Office of Justice Programs, Department of Justice.

(4) Affected public who will be asked or required to respond, as well as a brief abstract. Primary: Applicants for grants funded by the Office of Justice Programs. Other: None. The purpose of the Standard Assurances form is to obtain the assurance/certification of each applicant for OJP funding that it will comply with the various cross-cutting regulatory and statutory requirements that apply to OJP grantees, and to set out in one easy-to-reference document those requirements that most frequently impact OJP grantees.

(5) An estimate of the total number of respondents and the amount of time estimated for an average respondent to respond/reply: Total of 8,250 respondents estimated, at 20 minutes each.

(6) An estimate of the total public burden (in hours) associated with the collection: The estimated total public burden associated with this information is 3,500.

If additional information is required contact: Lynn Bryant, Department Clearance Officer, United States Department of Justice, Justice Management Division, Policy and Planning Staff, Patrick Henry Building, Suite 1600, 601 D Street NW., Washington, DC 20530.

Dated: June 15, 2009.
Lynn Bryant,
Department Clearance Officer, PRA, United States Department of Justice.

[FR Doc. E9-14376 Filed 6-18-09; 8:45 am]

BILLING CODE 4410-18-P